DEPARTMENT OF HEALTH AND HUMAN SERVICES

Centers for Disease Control and Prevention

Disease, Disability, and Injury Prevention and Control

Special Emphasis Panel (SEP): Cooperative Agreement Program for the National Academic Centers of Excellence in Youth Violence Prevention (U01), Funding Opportunity Announcement (FOA) CE10-004, Initial Review

In accordance with section 10(a)(2) of the Federal Advisory Committee Act (Pub. L. 92-463), the Centers for Disease Control and Prevention (CDC) announces the aforementioned meeting:

Times and Dates: 8 a.m.-5 p.m., July 22, 2010 (Closed). 8 a.m.-5 p.m., July 23, 2010 (Closed).

Place: Embassy Suites Atlanta—Buckhead, 3285 Peachtree Road, NE., Atlanta, Georgia 30305, Telephone: 404-261-7733.

Status: The meetings will be closed to the public in accordance with provisions set forth in Section 552b(c)(4) and (6), Title 5, U.S.C., and the Determination of the Director, Management Analysis and Services Office, CDC, pursuant to Section 10(d) of Public Law 92-463.

Matters to be Discussed: The meeting will include the initial review, discussion, and evaluation of applications received in response to “Cooperative Agreement Program for the National Academic Centers of Excellence in Youth Violence Prevention (U01), FOA CE10-004.”

Agenda items are subject to change as priorities dictate.

Contact Person for More Information: J. Felix Rogers, Ph.D., M.P.H., NCIPC/ERPO, CDC, 4770 Buford Highway, NE., M/S F63, Atlanta, Georgia 30341-3724, Telephone (770) 488-4334. The Director, Management Analysis and Services Office has been delegated the authority to sign Federal Register notices pertaining to announcements of meetings and other committee management activities for both CDC and the Agency for Toxic Substances and Disease Registry.

Dated: June 10, 2010.
Elaine L. Baker,
Director, Management Analysis and Services Office, Centers for Disease Control and Prevention.

[FR Doc. 2010-14772 Filed 6-17-10; 8:45 am]

BILLING CODE 4163-18-P